DEPARTMENT OF ENERGY

Federal Energy Regulatory Commission

Combined Notice of Filings #1

Take notice that the Commission received the following electric corporate filings:

Docket Numbers: EC11-41-001.

Applicants: Varde Partners, L.P., Varde Management, L.P., Varde Management International, L.P., Granite Ridge Holding, LLC, Granite Ridge Energy, LLC.

Description: Motion of Varde Partners, L.P., et. al. to terminate authorization previously granted.

Filed Date: 3/22/16.

Accession Number: 20160322-5208.

Comments Due: 5 p.m. ET 4/12/16.

Docket Numbers: EC16-98-000.

Applicants: Chubu Electric Power Company U.S.A. Inc., Tokyo Electric Power Company, Incorporation.

Description: Application for Approval Under Section 203 of the Federal Power Act of Chubu Electric Power Company U.S.A. Inc. and Tokyo Electric Power Company, Incorporated.

Filed Date: 3/31/16.

Accession Number: 20160331-5403.

Comments Due: 5 p.m. ET 4/21/16.

Take notice that the Commission received the following electric rate filings:

Docket Numbers: ER16-693-001.

Applicants: California Independent System Operator Corporation.

Description: Compliance filing: 2016-04-01 IPE 2015 Compliance Filing to be effective 3/8/2016.

Filed Date: 4/1/16.

Accession Number: 20160401-5317.

Comments Due: 5 p.m. ET 4/22/16.

Docket Numbers: ER16-1018-001.

Applicants: Guzman Renewable Energy Partners LLC.

Description: Tariff Amendment: Market-Based Rate Tariff #1 Amendment to be effective 3/31/2016.

Filed Date: 4/1/16.

Accession Number: 20160401-5012.

Comments Due: 5 p.m. ET 4/22/16.

Docket Numbers: ER16-1211-001.

Applicants: Midcontinent Independent System Operator, Inc.

Description: Tariff Amendment: 2016-04-01_SA 2906 Amendment to Indianapolis Power & Light GIA (J401) to be effective 3/18/2016.

Filed Date: 4/1/16.

Accession Number: 20160401-5202.

Comments Due: 5 p.m. ET 4/22/16.

Docket Numbers: ER16-1316-000.

Applicants: Entergy Services, Inc.

Description: § 205(d) Rate Filing: Entergy Services, Inc., Amended Service Agreements to be effective 9/1/2016.

Filed Date: 3/31/16.

Accession Number: 20160331-5357.

Comments Due: 5 p.m. ET 4/21/16.

Docket Numbers: ER16-1317-000.

Applicants: Orange and Rockland Utilities, Inc.

Description: § 205(d) Rate Filing: Attachment J—Municipal Underground Surcharge Revision to be effective 4/1/2016.

Filed Date: 3/31/16.

Accession Number: 20160331-5359.

Comments Due: 5 p.m. ET 4/21/16.

Docket Numbers: ER16-1318-000.

Applicants: Westar Energy, Inc.

Description: § 205(d) Rate Filing: Revisions, Full Requirement Service Agreements, Attachment D to be effective 6/1/2016.

Filed Date: 4/1/16.

Accession Number: 20160401-5007.

Comments Due: 5 p.m. ET 4/22/16.

Docket Numbers: ER16-1319-000.

Applicants: Entergy Services, Inc.

Description: Tariff Cancellation: ESI Notice of Cancellation of SA 435-B to be effective 8/31/2016.

Filed Date: 4/1/16.

Accession Number: 20160401-5009.

Comments Due: 5 p.m. ET 4/22/16.

Docket Numbers: ER16-1321-000.

Applicants: New England Power Pool Participants Committee.

Description: § 205(d) Rate Filing: April 2016 Membership Filing to be effective 3/1/2016.

Filed Date: 4/1/16.

Accession Number: 20160401-5143.

Comments Due: 5 p.m. ET 4/22/16.

Docket Numbers: ER16-1322-000.

Applicants: Midcontinent Independent System Operator, Inc., Entergy Services, Inc.

Description: § 205(d) Rate Filing: 2016-04-01_Entergy Merger Filing to be effective 6/1/2016.

Filed Date: 4/1/16.

Accession Number: 20160401-5191.

Comments Due: 5 p.m. ET 4/22/16.

Docket Numbers: ER16-1323-000.

Applicants: Public Service Company of New Mexico.

Description: § 205(d) Rate Filing: Annual Real Power Loss Factor Filing for 2016 to be effective 6/1/2016.

Filed Date: 4/1/16.

Accession Number: 20160401-5192.

Comments Due: 5 p.m. ET 4/22/16.

Docket Numbers: ER16-1324-000.

Applicants: Midcontinent Independent System Operator, Inc.

Description: § 205(d) Rate Filing: 2016-04-01_RTOR Settlement Interim Rate Filing to be effective 1/1/2016.

Filed Date: 4/1/16.

Accession Number: 20160401-5203.

Comments Due: 5 p.m. ET 4/22/16.

Docket Numbers: ER16-1325-000.

Applicants: Mesquite Solar 2, LLC.

Description: Initial rate filing: Mesquite Solar 2, LLC Petition for Order Accepting Market Based Rate Tariff to be effective 5/20/2016.

Filed Date: 4/1/16.

Accession Number: 20160401-5204.

Comments Due: 5 p.m. ET 4/22/16.

Docket Numbers: ER16-1326-000.

Applicants: Mesquite Solar 3, LLC.

Description: Initial rate filing: Mesquite Solar 3, LLC Petition for Order Accepting Market Based Rate Tariff to be effective 5/20/2016.

Filed Date: 4/1/16.

Accession Number: 20160401-5205.

Comments Due: 5 p.m. ET 4/22/16.

Docket Numbers: ER16-1327-000.

Applicants: Copper Mountain Solar 4, LLC.

Description: Baseline eTariff Filing: Copper Mountain Solar 4, LLC Petition for Order Accepting Market Based Rates to be effective 5/20/2016.

Filed Date: 4/1/16.

Accession Number: 20160401-5206.

Comments Due: 5 p.m. ET 4/22/16.

Docket Numbers: ER16-1328-000.

Applicants: Public Service Company of New Mexico.

Description: Application of Public Service Company of New Mexico for 2016 Transmission Formula Rate Post-Retirement Benefits Other than Pensions Expense under ER16-1328.

Filed Date: 4/1/16.

Accession Number: 20160401-5208.

Comments Due: 5 p.m. ET 4/22/16.

Docket Numbers: ER16-1329-000.

Applicants: PacifiCorp.

Description: § 205(d) Rate Filing: PacifiCorp Energy Construction Agmt—Granite Mountain Solar to be effective 3/28/2016.

Filed Date: 4/1/16.

Accession Number: 20160401-5276.

Comments Due: 5 p.m. ET 4/22/16.

Docket Numbers: ER16-1330-000.

Applicants: Idaho Power Company.

Description: Initial rate filing: Construction Agreement for Don-Blackfoot 138 kV Thermal Relay to be effective 3/18/2016 .

Filed Date: 4/1/16.

Accession Number: 20160401-5291.

Comments Due: 5 p.m. ET 4/22/16.

Docket Numbers: ER16-1331-000.

Applicants: Southwest Power Pool, Inc.

Description: § 205(d) Rate Filing: Tariff Revisions to Clarify the Process to Study Requests for Short-Term Service to be effective 5/31/2016.

Filed Date: 4/1/16.

Accession Number: 20160401-5303.

Comments Due: 5 p.m. ET 4/22/16.

Docket Numbers: ER16-1332-000.

Applicants: Arizona Public Service Company.

Description: § 205(d) Rate Filing: Rate Schedule No. 217, Exhibit B.Bke-LIB to be effective 6/1/2016.

Filed Date: 4/1/16.

Accession Number: 20160401-5306.

Comments Due: 5 p.m. ET 4/22/16.

Docket Numbers: ER16-1333-000.

Applicants: Midcontinent Independent System Operator, Inc., WPPI Energy.

Description: § 205(d) Rate Filing: 2016-04-01_WPPI ATRR Recovery Filing to be effective 6/1/2016.

Filed Date: 4/1/16.

Accession Number: 20160401-5308.

Comments Due: 5 p.m. ET 4/22/16.

Docket Numbers: ER16-1334-000.

Applicants: Public Service Company of Colorado.

Description: § 205(d) Rate Filing: 2016-4-1_PSC-PRPA-LaPorte Const-414-0.0.0-Filing to be effective 4/2/2016.

Filed Date: 4/1/16.

Accession Number: 20160401-5322.

Comments Due: 5 p.m. ET 4/22/16.

Docket Numbers: ER16-1335-000.

Applicants: PJM Interconnection, L.L.C.

Description: § 205(d) Rate Filing: Revisions to OA Schedule 6 section 1.5 re: Lower Voltage Facilities Threshold to be effective 6/1/2016.

Filed Date: 4/1/16.

Accession Number: 20160401-5324.

Comments Due: 5 p.m. ET 4/22/16.

Docket Numbers: ER16-1336-000.

Applicants: PJM Interconnection, L.L.C.

Description: § 205(d) Rate Filing: Revisions to OATT Att. DD.10A re: Ramp Rate—CP Resource Performance to be effective 5/31/2016.

Filed Date: 4/1/16.

Accession Number: 20160401-5333.

Comments Due: 5 p.m. ET 4/22/16.

Docket Numbers: ER16-1337-000.

Applicants: Public Service Company of Colorado.

Description: § 205(d) Rate Filing: 2016-4-1_PSC-PRPA-LaPorte PPA 174 0.0.0-Filing to be effective 10/15/2010.

Filed Date: 4/1/16.

Accession Number: 20160401-5335.

Comments Due: 5 p.m. ET 4/22/16.

Docket Numbers: ER16-1338-000.

Applicants: Merrill Lynch Commodities, Inc.

Description: § 205(d) Rate Filing: Normal 2016 to be effective 4/4/2016.

Filed Date: 4/1/16.

Accession Number: 20160401-5362.

Comments Due: 5 p.m. ET 4/22/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2016.
Nathaniel J. Davis, Sr.,
Deputy Secretary.

[FR Doc. 2016-08067 Filed 4-7-16; 8:45 am]

BILLING CODE 6717-01-P